POSTAL SERVICE

39 CFR Part 111

Label Standards for Combined or Copalletized Periodicals Mailings

AGENCY: Postal Service.

ACTION: Final rule.

SUMMARY: This final rule clarifies when it is permissible to use the designation “NEWS” rather than the designation “PER” on Line 2 (the content line) of labels that identify sacks, trays, and pallets containing copies of Periodicals publications prepared in combined mailings or in copalletized mailings.

Combined mailings and copalletized mailings often consist of copies that would be eligible for the designation “NEWS” on the container label and other copies that would be eligible only for the designation “PER” on the container label. This final rule allows mailers to prepare and consolidate more than one Periodicals publication or edition of a publication into a single production mailstream.

This final rule also clarifies mailing standards for identifying the two different methods under which a Periodicals combined mailing may be prepared and to note the requirements for submitting postage statements under each method.

EFFECTIVE DATE: March 6, 2003.

FOR FURTHER INFORMATION CONTACT: Neil Berger at (703) 292-3645, Jane Stefaniak at (703) 292-3548, or Marc McCrery at (202) 268-2704.

SUPPLEMENTARY INFORMATION: In this rulemaking, the Postal Service announces the adoption of standards initially proposed on October 30, 2002 in the Federal Register (67 FR 66094-66096) for determining when to use “NEWS”—a designation for “newspaper”—and “PER”—a designation for the class name “Periodicals”—as part of the information on Line 2 (the content line) of sack, tray, and pallet labels used for combined mailings and copalletized mailings.

This final rule allows mailers to prepare and consolidate more than one Periodicals publication or edition of a publication into a single production mailstream by providing the following standards for the application of the “NEWS” and “PER” designations in such cases:

(1) If at least 51% of the total number of copies (not number of addressed pieces) in the combined mailing or in the copalletized mailing can qualify for “NEWS” treatment, then all containers or pallets in such a mailing are labeled “NEWS” on Line 2, unless the mailer chooses to use “PER.”

(2) If less than 51% of the total number of copies in the combined mailing or in the copalletized mailing can qualify for “NEWS” treatment, then all containers or pallets in such a mailing are labeled “PER” on Line 2.

“NEWS” and “PER” Designations

Domestic Mail Manual (DMM) D210 states that the Postal Service does not guarantee the delivery of Periodicals publications within a specified time. Where practicable, Periodicals publications, whether designated “NEWS” or “PER,” receive expeditious handling in distribution, dispatch, transportation, and delivery.

Publications labeled “NEWS” receive newspaper treatment if published weekly or more often or if authorized such treatment as of March 1, 1984. In general, such publications include daily or weekly newspapers and newsmagazines published and distributed locally or nationally.

The “NEWS” designation helps the Postal Service ensure consistent service and handling for such Periodicals publications from entry into the mailstream, through successive operations in mail processing, to delivery to the intended recipient.

Current label standards for containers, as specified in DMM M031.1.7, M031.4.11, and M032.1.3 stipulate that the “NEWS” designation may be used on labels for sacks, trays, and pallets for a Periodicals publication only if either one of the following two conditions is met:

(1) The Periodicals publication is published weekly or more frequently.

(2) The Periodicals publication has been continuously authorized such newspaper treatment since March 1, 1984, or earlier, regardless of publication frequency.

All other publications use “PER”—designation for the class name “Periodicals”—as part of the information on Line 2 (the content line) of mail processing labels. These labels are affixed by the mailer to pallets or inserted into label holders attached to sacks and trays to identify Periodicals publications that do not meet either of the conditions required for the “NEWS” designation.

The use of these two distinct designations is carried forward for all container labeling, with two separate but parallel series of three-digit content identifier numbers (CINs). One CIN series is for those publications that are eligible to use “NEWS,” and the second series is for those publications that are not eligible to use “NEWS” and must use “PER.” Each series contains nearly 50 different CINs to meet all possible rate combinations available and all permitted containers.

It should be pointed out, however, that the use of “NEWS” is optional for those publications eligible to use that designation. A publisher, for example, who issues and distributes publications eligible for the “NEWS” designation and other publications not eligible for “NEWS” has the flexibility to label all containers as “PER” in order to achieve greater production efficiencies (and greater postage savings) if combined mailings or copalletized mailings are prepared.

On the other hand, the same publisher following mailing standards before this final rule did not have the flexibility of using the “NEWS” designation for all containers in a combined mailing or copalletized mailing under any condition. This final rule provides limited conditions that permit the use of “NEWS” for combined mailings and copalletized mailings consisting of publications eligible for “NEWS” and those not eligible for that designation.

Combined and Copalletized Mailings

Mailing standards have been introduced over the years to promote the consolidation of different Periodicals publications or different editions of the same publication into larger volume mailings. These standards, however, have not prevented customers from combining copies in containers labeled as “PER” with copies labeled as “NEWS” as a way to improve the depth of sort and to reduce the overall number of containers prepared.

These consolidations represent an effective means for Periodicals mailers and the Postal Service to improve customer service, promote greater production efficiencies, reduce the number of containers used to prepare mailings, and stabilize rates by eliminating additional mail processing steps. For Periodicals mailers, the primary benefit is greater postage savings.

Comments

The Postal Service requested in its proposed rule published on October 30, 2002, in the Federal Register (67 FR 66094-66096) that comments on the proposed labeling standards for Periodicals combined mailings and copalletized mailings be submitted by November 29, 2002. Comments were received from only one interested party: a publisher of a biweekly publication.

The publisher, whose publication is issued every two weeks, expressed concern about the extension of newspaper or “NEWS” treatment to publications that are not eligible for such treatment under the long-standing standards presented in the DMM if those publications were mailed separately and not included as part of a combined mailing or a copalletized mailing. The commenter also inquired about the number of publications permitted to use “NEWS” on container labels. Furthermore, the publisher wanted to know how many publications that enjoyed “NEWS” treatment were published less frequently than once a week and received such treatment as a result of an authorization issued on March 1, 1984, or earlier, as provided in the DMM.

Postal Service records show, as of December 13, 2002, that 35,695 publications were authorized Periodicals mailing privileges. Of this total, 10,259 or nearly 29 percent are published weekly or more frequently. The Postal Service maintains no centralized records, however, that indicate whether a publication that is eligible to use “NEWS” actually uses that designation or “PER.” Moreover, there is no national system of records that indicates which publications are eligible to use “NEWS” based on authorizations permitted on or before March 1, 1984. Postmasters of the various authorized original offices would have access to that specific information, which is outside the scope of this rulemaking.

Most of the weekly or more frequently published publications fall into two categories: small and large local newspapers and large national newsmagazines and similar news publications. In both categories, the use of combined mailings or copalletized mailings is limited in potential scope. For example, local newspapers often have sufficient volumes and densities to achieve lower postage rates and destination discounts without being combined or copalletized with other publications. As a consequence, only a small percentage of those publications authorized “NEWS” treatment are likely to be combined with those publications not authorized such treatment.

This final rule, however, affords publishers the additional flexibility of combining and copalletizing Periodicals mailings whenever warranted by production efficiencies, postage savings, and improved service. Publishers of Periodicals publications that are generally not eligible for “NEWS” treatment can now determine whether it is advantageous to be combined or copalletized with other publications eligible for such treatment. This is an option for which publications such as the one issued by the commenter previously could not be considered.

The publisher commenting on the proposed rule also believed that the reasoning behind the use of the “NEWS” designation was to ensure that time-sensitive publications were processed and delivered in a consistent and timely manner. He believed that factors other than the frequency of publication should be considered when determining whether a publication is time-sensitive and eligible for the “NEWS” designation for mail processing and delivery. The publisher noted that the adoption of the proposed standards would extend that privilege to publications that were perhaps not time-sensitive whereas publications such as his publication, which he stated was issued 26 times a year and which he maintained was time-sensitive in content, would not benefit from the proposed standard.

Although the Postal Service does not guarantee the delivery of Periodicals publications within a specified time, it handles all such publications, whether designated “NEWS” or “PER,” as expeditiously as possible in distribution, dispatch, transportation, and delivery. There are few differences between the ways in which the Postal Service handles publications designated “NEWS” and “PER.” In general, those designated “NEWS” are handled first to ensure timely processing and dispatch. Despite that difference, the Postal Service fully supports the invaluable role Periodicals publications play in keeping the American public informed and enlightened. As a consequence, the Postal Service makes every possible attempt to provide similar handling for publications designated “PER” to ensure timely and consistent delivery. The final rule does provide publishers of publications not authorized newspaper treatment, including the publication issued by the commenter, the option of being combined or copalletized with those publications that are authorized “NEWS” treatment.

As a clarification about what constitutes time-sensitive publications, the proposed rule did not address that issue or attempt to discuss or consider criteria other than frequency of publication that would need to be applied for determining the use of “NEWS” and “PER.” Since this issue is outside the scope of this rulemaking, the changes discussed in the proposed rule were based on practical operational reasons stemming from mail production that combines publications eligible for “NEWS” with those eligible only for “PER.” In view of that situation, mailers and publishers requested standards that specified the criteria under which those two designations could be used.

After full consideration of the comments received and for the reasons cited above, the Postal Service believes it appropriate to adopt the proposed rule for the use of the “NEWS” and “PER” designations for combined mailings and copalletized mailings.

List of Subjects in 39 CFR Part 111

Postal Service.

PART 111—[AMENDED]

1. The authority citation for 39 CFR part 111 continues to read as follows:

Authority: 5 U.S.C. 552(a); 39 U.S.C. 101, 401, 403, 404, 414, 416, 3001-3011, 3201-3219, 3403-3406, 3621, 3626, 5001.

2. Amend the following sections of the Domestic Mail Manual (DMM) as set forth below:

E Eligibility

* * * * *

E200 Periodicals

* * * * *

E230 Carrier Route Rates

[Remove 4.0.]

* * * * *

M Mail Preparation and Sortation

M000 General Preparation Standards

* * * * *

M030 Containers

M031 Labels

* * * * *

1.0 SACK AND TRAY LABELS

* * * * *

[Revise 1.7 to read as follows:]

1.7 Periodicals Publications

Except as provided in M230.2.0 for combined mailings, Periodicals publications must use one of the following for Line 2 class information:

a. “PER.”

b. “NEWS” if published weekly or more often or if authorized newspaper treatment as of March 1, 1984.

* * * * *

4.0 PALLET LABELS

* * * * *

[Revise 4.11 to read as follows:]

4.11 Periodicals Publications

Except as provided in M045.8.0 for copalletized mailings, Periodicals publications must use one of the following for Line 2 class information:

a. “PER.”

b. “NEWS” if published weekly or more often or if authorized newspaper treatment as of March 1, 1984.

* * * * *

M032 Barcoded Labels

1.0 BASIC STANDARDS—TRAY AND SACK LABELS

* * * * *

[Revise 1.3b to read as follows:]

1.3 Content Line (Line 2)

The content line must meet these standards:

* * * * *

b. Periodicals. Except as provided in M045.8.0 for copalletized mailings and in M230.2.0 for combined mailings, Periodicals publications must use one of the following for Line 2 class information:

(1) “PER.”

(2) “NEWS” if published weekly or more often or if authorized newspaper treatment as of March 1, 1984.

* * * * *

M040 Pallets

* * * * *

M045 Palletized Mailings

* * * * *

[Revise heading of 8.0 to read as follows:]

8.0 COPALLETIZED FLAT-SIZE PIECES—PERIODICALS OR STANDARD MAIL

* * * * *

[Amend 8.2 by revising 8.2a, adding new 8.2b, and redesignating current 8.2b as 8.2c to read as follows:]

8.2 Periodicals

Additional standards are as follows:

a. Periodicals eligible for preferred rates (In-County, Nonprofit, Classroom, and Science-of-Agriculture) may be combined with Periodicals eligible for Outside-County rates.

b. All pallets in a copalletized mailing are identified on the content line (Line 2) of the label with only “NEWS” (see M031) or “PER” as the class designation under these conditions:

(1) If at least 51% of the total number of copies in the copalletized mailing can qualify for “NEWS” treatment, then all pallets in such a mailing are labeled “NEWS,” unless the mailer chooses to use “PER.”

(2) If less than 51% of the total number of copies in a copalletized mailing can qualify for “NEWS” treatment, then all pallets in such a mailing are labeled “PER.”

* * * * *

[Revise M230 by amending heading of M230; by amending 1.0; and by redesignating and amending current 2.0 as 2.2, current 3.0 as 2.1, current 4.0 as 2.4, and current 5.0 as 2.5 to read as follows:]

M230 Combining Multiple Editions or Publications

1.0 DESCRIPTION

1.1 Purpose

Periodicals publications may be prepared as a combined mailing by merging copies either during production or after finished copies are produced to achieve the finest presort level possible or to reduce the per piece charge.

1.2 Methods

A Periodicals combined mailing may be prepared using either one of these methods:

a. Individually addressed copies of different editions of a Periodicals publication (one title) or individually addressed copies of different Periodicals publications (more than one title) are merged and sorted together to obtain a finer presort level.

b. Two or more copies of different Periodicals publications (two or more titles) are placed within the same mailing wrapper and presented as one addressed piece to a single recipient to reduce the per piece charge.

2.0 BASIC STANDARDS

2.1 Eligibility and Mail Preparation

Each publication in a combined mailing must meet the basic eligibility standards in E211 and the specific standards for the rate claimed. In addition, the combined mailing must meet the eligibility and mail preparation standards for the rate claimed.

2.2 Minimum Volume

For combined mailings prepared under 1.2a, more than one Periodicals publication, or edition of a publication, may be combined to meet the required minimum volume per package, sack, or tray for the rate claimed. For combined mailings prepared under 1.2b, the appropriate minimum volume requirements in M210, M220, M810, or M820 apply for the rate claimed.

2.3 Labeling

All sacks or trays in a combined mailing are labeled the same, as either “NEWS” (see M031) or as “PER,” depending on which of the following conditions is met:

a. If at least 51% of the total number of copies in the combined mailing can qualify for “NEWS” treatment, then all sacks or trays in such a mailing are labeled “NEWS,” unless the mailer chooses to use “PER.”

b. If less than 51% of the total number of copies in a combined mailing can qualify for “NEWS” treatment, then all sacks or trays in such a mailing are labeled “PER.”

2.4 Documentation

Presort documentation required under P012 must show the total number of addressed pieces and total number of copies for each publication and each edition, if applicable, in the combined mailing claimed at the carrier route, 5-digit, 3-digit, and basic rates. The publisher must also provide a list, by 3-digit ZIP Code prefix, of the number of addressed pieces for each publication and each edition, if applicable, claimed at any destination entry and pallet discounts.

2.5 Postage Statements

Postage statements for a combined mailing must be prepared as follows:

a. Copy weight and advertising percentage determine whether separate postage statements are required for editions of the same publication:

(1) If the copy weight and advertising percentage for all editions of a publication are the same, all the editions may be reported on the same postage statement or each edition may be reported on a separate postage statement.

(2) If either the copy weight or the advertising percentage is different for each edition of a publication, each edition must be reported on a separate postage statement.

b. For a combined mailing prepared under 1.2a, a separate postage statement that claims all applicable per piece and per pound charges must be prepared for each publication or edition except as provided in 2.5a. The mailer must annotate on, or attach to, each postage statement, the title and issue date of each publication or edition included in the combined mailing and indicate that the pieces were prepared as part of a combined mailing under 1.2a.

c. For mailings prepared under 1.2b, a separate postage statement claiming the applicable per pound charges must be prepared for each publication or edition in the combined mailing except as provided in 2.5a. The mailer must annotate on, or attach to, each postage statement, the title and issue date of each publication or edition included in the combined mailing and indicate that the copies were prepared as part of a combined mailing under 1.2b. The per piece charges must be claimed as follows:

(1) If all copies in a combined mailing prepared under 1.2b are eligible for the Classroom or Nonprofit discount, the per piece charges must be claimed only on the postage statement for the publication that contains the highest amount of advertising.

(2) If all copies in a combined mailing prepared under 1.2b are not eligible for the Classroom or Nonprofit discount, the per piece charges must be claimed only on the postage statement for the publication that contains the highest amount of advertising.

(3) If a portion of the copies in a combined mailing prepared under 1.2b are eligible for the Classroom or Nonprofit discount and a portion are not eligible for those discounts, the per piece charges must be claimed only on the postage statement for the publication that contains the highest amount of advertising and is not eligible for the Classroom or Nonprofit discount. The Classroom or Nonprofit per piece discount must not be claimed.

* * * * *

An appropriate amendment to 39 CFR 111 to reflect the changes will be published.

Neva R. Watson,
Attorney, Legislative.

[FR Doc. 03-4418 Filed 2-26-03; 8:45 am]

BILLING CODE 7710-12-P